DEPARTMENT OF DEFENSE

Office of the Secretary

Reserve Forces Policy Board; Notice of Federal Advisory Committee meeting

AGENCY: Office of the Secretary of Defense, Reserve Forces Policy Board, Department of Defense.

ACTION: Notice of Federal Advisory Committee meeting.

SUMMARY: The Department of Defense (DoD) is publishing this notice to announce that the following Federal Advisory Committee meeting of the Reserve Forces Policy Board (RFPB) will take place.

DATES: Thursday, September 15, 2016 from 8 a.m. to 4:10 p.m.

ADDRESSES: The address of the open meeting is the Army Navy Country Club, 1700 Army Navy Drive, Arlington, VA 22202.

FOR FURTHER INFORMATION CONTACT: Mr. Alex Sabol, Designated Federal Officer, (703) 681-0577 (Voice), (703) 681-0002 (Facsimile), Email: Alexander.J.Sabol.Civ@Mail.Mil. Mailing address is Reserve Forces Policy Board, 5113 Leesburg Pike, Suite 601, Falls Church, VA 22041. Web site: http://rfpb.defense.gov/. The most up-to-date changes to the meeting agenda can be found on the RFPB's Web site.

SUPPLEMENTARY INFORMATION: This meeting notice is being published under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review, and evaluate information related to strategies, policies, and practices designed to improve and enhance the capabilities, efficiency, and effectiveness of the Reserve Components.

Agenda: The RFPB will hold a meeting from 8:00 a.m. to 4:10 p.m. The meeting will be open to the public and will consist of the following briefings: the Chief of Staff, United States Air Force, will discuss his views regarding the readiness challenges for the United States Air Force and the Air Force Reserve Component's future challenges for the “Operational Reserve” as part of the Total Force. The Under Secretary of the Navy will discuss the key challenges and priorities for the Navy in this period of fiscal uncertainty and an increasingly challenging security environment, as well as her views regarding the Navy Reserve's potential use and readiness challenges of the “Operational Reserve.” The Chief, National Guard Bureau will discuss his views regarding the readiness challenges for the National Guard and his thoughts on the future of the “Operational Reserve” concept as part of the Total Force. The Deputy Assistant Secretary of Defense (Reserve Integration) will discuss his views and observations on the recent Office of the Under Secretary of Defense Personnel & Readiness (OUSD P&R) reorganization and specifically his role and progress regarding Reserve integration within OUSD P&R. The Chair of the Supporting & Sustaining Reserve Component Personnel Subcommittee will discuss the proposed Department of Defense's personnel system reforms concerning the Military's Blended Retirement System, and the findings from the Air Force's and Army's Integrated Pay and Personnel System. Additional discussions will cover updates to the RFPB recommendations to the Secretary of Defense on Duty Status Reform, the 20% Military Technician conversion, the SASC FY 2017 NDAA concerning the mandated General/Flag Officer reductions, AC/RC Permeability, USERRA changes, and RC Unemployment issues, and the effects of these reforms on the Reserve Components. The Chair of the Ensuring a Ready, Capable, Available and Sustainable Operational Reserve Subcommittee will discuss the Declaration of National Emergency (DNE) Act and how it relates to existing Reserve Components authorities, and how Reserve Components employment would change if the DNE is not renewed. Additional discussions will cover updates of the status on the RFPB's recommendation to Secretary of Defense on the Operational Reserve definition and findings concerning the Reserve Components' medical readiness tracking metrics and methods. The RFPB meeting will conclude with the Chairman's time, where he will discuss the Provisions on General and Flag Officers reductions in the proposed NDAA 2017; will present the final edition of the RFPB Issues New Administration Transition Book that will be provided for the Department's briefings for the New Administration; will provide an update on the Goldwater Nichols Reform Efforts and current budget information, will present the FY 2018 RFPB meeting dates, and present for consideration the proposed contents of the FY 2016 RFPB Annual Report.

Meeting Accessibility: Pursuant to section 10(a)(1) of the FACA and 41 CFR 102-3.140 through 102-3.165, and subject to the availability of space, the meeting is open to the public from 8:00 a.m. to 4:10 p.m. Seating is on a first-come, first-served basis. All members of the public who wish to attend the public meeting must contact Mr. Alex Sabol, the Designated Federal Officer, not later than 12:00 p.m. on Wednesday, September 14, 2016, as listed in the FOR FURTHER INFORMATION CONTACT section.

Written Statements: Pursuant to 41 CFR 102-3.105(j) and 102-3.140 and section 10(a)(3) of the FACA, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates under the provisions of the FACA, all submitted comments and public presentations will be treated as public documents and will be made available for public inspection, including, but not limited to, being posted on the RFPB's Web site.

Dated: August 25, 2016.
Aaron Siegel,
Alternate OSD Federal Register Liaison Officer, Department of Defense.

[FR Doc. 2016-20835 Filed 8-29-16; 8:45 am]

BILLING CODE 5001-06-P